DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Dennison Railroad Depot Museum (RPCX 422)

[Waiver Petition Docket Number FRA-2010-0179]

The Dennison Railroad Depot Museum (DRDM), an Ohio nonprofit 501(c)(3) charitable organization, seeks a waiver of compliance from the requirements of 49 CFR Section 223.15, Requirements for existing passenger cars. Specifically, DRDM has petitioned for one lightweight passenger car built in 1949 for Canadian National Railway (now Coach RPCX 422). DRDM operates this car on its Polar Express, which is a roundtrip of 40 miles on track owned by Genesee & Wyoming Railroad. This car was purchased by DRDM in 2008 from the Locomotive and Tower Preservation Fund, LTD. There have been no accidents and/or incidents attributed directly or indirectly to window glazing failures in this equipment while under current ownership. There has been one act of vandalism (with one cracked window; no resultant injuries) that occurred in the fall of 2009. The maximum authorized speed for this train is 45 mph, mostly rural in nature. The car operates in excursion service during two weekends in December, with two roundtrips on Fridays and four on Saturdays and Sundays (20 Polar Express trips; annual mileage is approximately 800).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0179) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review the U.S. Department of Transportation's complete Privacy Act Statement in the Federal Register published on April 11, 2000 (Volume 65, Number 70; Page 19477-78) or at http://www.dot.gov/privacy.html.

Issued in Washington, DC, on August 11, 2011.
Robert C. Lauby,
Deputy Associate Administrator for Regulatory and Legislative Operations.

[FR Doc. 2011-20789 Filed 8-15-11; 8:45 am]

BILLING CODE ;P